DEPARTMENT OF HEALTH AND HUMAN SERVICES

[Document Identifier: 0937-0191-30D]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 26, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Collection: Reinstatement w/without chg.

OMB No.: 0937-0191.

Abstract: The Office of Assistant Secretary for Administration, Program Support Center, Federal Real Property Assistance Program is requesting OMB approval on a previously approved information collection, 0937-0191. 40 U.S.C. 550 (the “Act”), as amended, provides authority to the Secretary of Health and Human Services to convey or lease surplus real property to States and their political subdivisions and instrumentalities, to tax-supported institutions, and to nonprofit institutions which (except for institutions which lease property to assist the homeless) have been held exempt from taxation under Section 501(c)(3) of the 1954 Internal Revenue Code, and 501(c)(19) for veterans organizations, for public health and homeless assistance purposes. Transfers are made to transferees at little or no cost.

Type of respondent: Responses are dependent on when Federal surplus real property is made available and is desired by a respondent/applicant for acquisition. Likely respondents include State, local, or tribal units of government or instrumentalities thereof, and not-for-profit organizations.

Estimated Annualized Burden Table
Forms (if necessary) | Respondents (if necessary) | Number of respondents | Number of responses per respondents | Average burden per response | Total burden hours
Applications for surplus Federal real property |  | 15 | 1 | 200 | 3,000
Total |  | 15 | 1 | 200 | 3,000

Dated: January 19, 2021.
Sherrette A. Funn,
Paperwork Reduction Act Reports Clearance Officer, Office of the Secretary.

Editorial note: This document was received for publication by the Office of the Federal Register on April 20, 2021.

[FR Doc. 2021-08548 Filed 4-23-21; 8:45 am]

BILLING CODE 4150-04-P